DEPARTMENT OF HEALTH AND HUMAN SERVICES

Centers for Disease Control and Prevention

Disease, Disability, and Injury Prevention and Control Special Emphasis Panel (SEP)—GH23-003, Conducting Public Health Research With Universities in Thailand; Amended Notice of Closed Meeting

Notice is hereby given of a change in the meeting of the Disease, Disability, and Injury Prevention and Control Special Emphasis Panel (SEP)—GH23-003, Conducting Public Health Research with Universities in Thailand; April 12, 2023, 9 a.m.-2:30 p.m., EDT, teleconference, in the original Federal Register Notice. The meeting was published in the Federal Register on March 2, 2023, Volume 88, Number 41, page 13121.

The meeting is being amended to add a Notice of Funding Opportunity number and should read as follows:

Name of Committee: Disease, Disability, and Injury Prevention and Control Special Emphasis Panel (SEP)— GH20-002, Malaria Operations Research to Improve Malaria Control and Reduce Morbidity and Mortality in Western Kenya; and GH23-003, Conducting Public Health Research with Universities in Thailand.

The meeting is closed to the public.

FOR FURTHER INFORMATION CONTACT: Hylan Shoob, Ph.D., Scientific Review Officer, Center for Global Health, CDC, 1600 Clifton Road NE, Mailstop H21-9, Atlanta, Georgia 30329-4027; Telephone: (404) 639-4796; Email: HShoob@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-05297 Filed 3-14-23; 8:45 am]

BILLING CODE 4163-18-P